DEPARTMENT OF COMMERCE

International Trade Administration

[A-549-502]

Certain Welded Carbon Steel Pipes and Tubes From Thailand: Final Results of Antidumping Duty Administrative Review

AGENCY: Import Administration, International Trade Administration, Department of Commerce.

ACTION: Notice of Final Results of Antidumping Duty Administrative Review: Certain Welded Carbon Steel Pipes and Tubes from Thailand.

SUMMARY: On April 7, 2000, the Department of Commerce (“the Department”) published in the Federal Register the preliminary results of its administrative review of the antidumping duty order on certain welded carbon steel pipes and tubes from Thailand (65 FR 18301). The review covers Saha Thai Steel Pipe Company, Ltd. (“Saha Thai”), a manufacturer/exporter of the subject merchandise and an affiliate. The period of review is March 1, 1998 through February 28, 1999.

Based on our analysis of the comments received, the final results differ from the preliminary results of review. The final weighted-average dumping margin for the reviewed firm is listed below in the section entitled “Final Results of the Review.”

EFFECTIVE DATE: October 13, 2000.

FOR FURTHER INFORMATION CONTACT: Javier Barrientos or Abdelali Elouaradia, Import Administration, International Trade Administration, U.S. Department of Commerce, Washington, DC 20230; telephone: (202) 482-2243 and (202) 482-1374, respectively.

SUPPLEMENTARY INFORMATION:

The Applicable Statute

Unless otherwise indicated, all citations to the Tariff Act of 1930, as amended (“the Act”), are references to the provisions effective January 1, 1995, the effective date of the amendments made to the Act by the Uruguay Round Agreements Act (“URAA”). In addition, unless otherwise indicated, all citations to the Department's regulations are to 19 CFR Part 351 (1999).

Background

On April 7, 2000, the Department published its preliminary results for this case. See Certain Welded Carbon Steel Pipes and Tubes From Thailand: Preliminary Results of Antidumping Duty Administrative Review, 65 FR 18301 (April 7, 2000). After the preliminary results, the Department verified Saha Thai's sales and cost data from June 14 through 28, 2000. We invited parties to comment on the preliminary results. The Department received case briefs on August 17, 2000, and rebuttal briefs on August 23, 2000.

The Department has conducted this administrative review in accordance with section 751 of the Act.

Scope of the Review

The products covered by this administrative review are certain welded carbon steel pipes and tubes from Thailand. The subject merchandise has an outside diameter of 0.375 inches or more, but not exceeding 16 inches. These products, which are commonly referred to in the industry as “standard pipe” or “structural tubing,” are hereinafter designated as “pipe and tube.” The merchandise is classifiable under the Harmonized Tariff Schedule (HTS) item numbers 7306.30.1000, 7306.30.5025, 7306.30.5032, 7306.30.5040, 7306.30.5055, 7306.30.5085, and 7306.30.5090. Although the HTS subheadings are provided for convenience and Customs purposes, our written description of the scope of the order is dispositive.

Analysis of Comments Received

All issues raised in the case and rebuttal briefs by parties to this administrative review are addressed in the “Issues and Decision Memorandum” (“Decision Memorandum”) from Joseph A. Spetrini, Deputy Assistant Secretary, Import Administration, to Troy H. Cribb, Acting Assistant Secretary for Import Administration, dated October 04, 2000, which is hereby adopted by this notice. A list of the issues which parties have raised and to which we have responded, all of which are in the Decision Memorandum, is attached to this notice as an Appendix. Parties can find a complete discussion of all issues raised in this review and the corresponding recommendations in this public memorandum which is on file in the Central Records Unit, Room B-099 of the main Department building. In addition, a complete version of the Decision Memorandum can be accessed directly on the Web at http://ia.ita.doc.gov/frn/index.html. The paper copy and electronic version of the Decision Memorandum are identical in content.

Changes Since the Preliminary Results

Based on our analysis of comments received and the database calculations, we have changed our results from the preliminary results of review. For the final results of review, Date of Sale, U.S. Brokerage Expenses, U.S. Imputed Credit Expense, and Raw Materials Exchange Gains have been adjusted to reflect the decisions the Department has reached for the Final Results. These changes are discussed in the relevant sections of the Decision Memorandum. In addition, minor corrections from verification and review of the preliminary results calculations by the Department resulted in revisions to: The net U.S. price calculation, which has been corrected to account for the proper currency in one of the variables; the home market customer affiliation for some observations; the interest amounts in the duty drawback calculation; ship date and credit for a U.S. observation; and other miscellaneous U.S. market related expenses in some of the observations.

Final Results of Review

We determine that the following weighted-average percentage margin exists for the period March 1, 1998, through February 28, 1999:

Manufacturer/exporter/reseller | Margin (percent)
Saha Thai Steel Pipe Company, Ltd | 1.81

The Department shall determine, and Customs shall assess, antidumping duties on all appropriate entries. The Department will issue appraisement instructions directly to the Customs Service. In accordance with 19 CFR 351.212(b), we have calculated exporter/importer-specific assessment rates. We divided the total dumping margins for the reviewed sales by the entered quantity of those reviewed sales for Saha Thai. We will direct Customs to assess the resulting percentage margins against the entered quantity for the subject merchandise on each of Saha Thai's entries during the review period.

Cash Deposit Requirements

The following deposit requirements will be effective upon publication of this notice of final results of administrative review for all shipments of certain welded carbon steel pipes and tubes from Thailand entered, or withdrawn from warehouse, for consumption on or after the date of publication, as provided by section 751(a)(1) of the Act: (1) The cash deposit rate for Saha Thai will be the rate shown above; (2) for previously reviewed or investigated companies not listed above, the cash deposit rate will continue to be the company-specific rate published for the most recent period; (3) if the exporter is not a firm covered in this review, a prior review, or the original less-than-fair-value (LTFV) investigation, but the manufacturer is, the cash deposit rate will be the rate established for the most recent period for the manufacturer of the merchandise; and (4) if neither the exporter nor the manufacturer is a firm covered in these or any previous reviews conducted by the Department, the cash deposit rate will be the “all others” rate established in the original LTFV investigation, which is 15.67 percent.

The cash deposit rate has been determined on the basis of the selling price to the first unaffiliated U.S. customer. These deposit requirements shall remain in effect until publication of the final results of the next administrative review.

Notification of Interested Parties

This notice also serves as a final reminder to importers of their responsibility under 19 CFR 351.402(f)(2) to file a certificate regarding the reimbursement of antidumping duties prior to liquidation of the relevant entries during this review period. Failure to comply with this requirement could result in the Secretary's presumption that reimbursement of the antidumping duties occurred and the subsequent assessment of double antidumping duties.

This notice also serves as a reminder to parties subject to administrative protective orders (“APOs”) of their responsibility concerning the return or destruction of proprietary information disclosed under APO in accordance with 19 CFR 351.305. Timely written notification of the return/destruction of APO materials or conversion to judicial protective order is hereby requested. Failure to comply with the regulations and terms of an APO is a violation which is subject to sanction.

We are issuing and publishing this determination and notice in accordance with sections 751(a)(1) and 777(i) of the Act.

Dated: October 4, 2000.
Troy H. Cribb,
Acting Assistant Secretary for Import Administration.

Appendix 1—Issues in Decision Memorandum

Comments and Responses

1. Date of Sale

2. Exchange Rate Losses

3. VAT charges

4. Duty Drawback

5. Thai Antidumping Duties on Russian Coils

6. Raw Materials Exchange Gains

7. U.S. Brokerage Expenses

8. U.S. Imputed Credit Expense

9. Duty Reimbursement

[FR Doc. 00-26385 Filed 10-12-00; 8:45 am]

BILLING CODE 3510-DS-P